DEPARTMENT OF TRANSPORTATION

Coast Guard

46 CFR Parts 10, 12, and 15

[USCG-1999-5610]

RIN 2115-AF83

Training and Qualifications for Personnel on Passenger Ships

AGENCY: Coast Guard, DOT.

ACTION: Interim rule with request for comments.

SUMMARY: The Coast Guard is establishing requirements of training and certification for masters, certain licensed officers, and certain crewmembers on any ship inspected under subchapter H, T, or K, other than a roll-on/roll-off (Ro-Ro) passenger ship, carrying more than 12 passengers when on an international voyage. (These requirements do not apply to any passenger ship when it is on a domestic voyage.) Regulation V/3 of the International Convention on Standards of Training, Certification and Watchkeeping for Seafarers, 1978 (STCW), as amended in 1997, mandated that its Parties ensure this training and certification. This interim rule will reduce human error, improve the ability of crewmembers to assist passengers during emergencies, and promote safety.

DATES: This interim rule is effective January 28, 2003. Comments and related material must reach the Docket Management Facility on or before December 30, 2002.

The incorporation by reference of certain publications listed in the rule is approved by the Director of the Federal Register, and effective January 28, 2003.

ADDRESSES: To make sure that your comments and related material do not enter the docket more than once, please submit them (referred to USCG-1999-5610) by only one of the following means:

(1) By mail to the Docket Management Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For questions on this rule, call Mark Gould, Project Manager, Commandant (G-MSO-1), Coast Guard, telephone 202-267-6890. For questions on viewing the docket, call Dorothy Beard, Chief of Dockets, Department of Transportation, telephone 202-366-5149.

SUPPLEMENTARY INFORMATION:

Request for Comments

We encourage you to participate in this rulemaking by submitting comments and related material. If you do so, please include your name and address, identify the docket number for this rulemaking (USCG-1999-5610), indicate the specific section of this document to which each comment applies, and give the reason for each comment. You may submit your comments and material by mail, delivery, fax, or electronic means to the Docket Management Facility at the address under ADDRESSES; but please submit your comments and material by only one means. If you submit them by mail or delivery, submit them in an unbound format, no larger than 8½ by 11 inches, suitable for copying and electronic filing. If you submit them by mail and would like to know they reached the Facility, please enclose a stamped, self-addressed postcard or envelope. We will consider all comments and material received during the comment period. We may change this rule in view of them.

Public Meeting

We do not plan to hold a public meeting. But you may submit a request for one to the Docket Management Facility at the address under ADDRESSES explaining why one would be beneficial. If we determine that one would aid this rulemaking, we will hold one at a time and place announced by a later notice in the Federal Register.

Regulatory History

On June 15, 2000, we published a notice of proposed rulemaking (NPRM) entitled “Training and Certification for Mariners Serving on Certain Ships Carrying More Than 12 Passengers on International Voyages” in the Federal Register [65 FR 37507]. We received two letters commenting on the proposed rule. No public hearing was requested, and none was held. Also on June 15, 2000, we published an Analysis and a Determination of Categorical Exclusion, both of which support the rule.

Background and Purpose

Regulation V/3 of the STCW, as amended, set qualifications for masters, other officers, ratings, and other personnel on passenger ships other than Ro-Ro passenger ships. It applies to a passenger ship (“vessel” under most domestic laws) when it is on an international voyage. This interim rule will not apply to any U.S.-flag passenger ship inspected under 46 CFR subchapter H, T, or K, when it is operating on a domestic voyage.

The purpose of this rule is to incorporate, into domestic rules, the training and certification that the STCW, as amended, mandates internationally. It will amend requirements for the training and certification of masters, certain licensed officers, and certain crewmembers on any ship, other than a Ro-Ro passenger ship, carrying more than 12 passengers when on an international voyage. It will have no impact on the applicability or content of the interim rule in 46 CFR part 10, subpart J; part 12, subpart 12.30; or part 15, subpart J (62 FR 34505, June 26, 1997), all three of which dealt with certain crewmembers on Ro-Ro passenger ships carrying more than 12 passengers on such voyages. It will merely establish appropriate training and documentation for the masters, certain licensed officers, and certain crewmembers on any other ship carrying more than 12 passengers when on an international voyage. “International voyage” means a voyage from the United States to a port outside the United States or conversely; or a voyage originating and terminating at ports outside the United States. A voyage between the continental United States and Hawaii or Alaska, and a voyage between Hawaii and Alaska, counts as a “international voyage” for the purposes of this rule (compare 46 CFR 199.30 on lifesaving).

If you would like more information on the background of this rulemaking and of the STCW, please refer to the NPRM discussed earlier under Regulatory History.

Discussion of Interim Rule

46 CFR Part 10—Licensing of Maritime Personnel

1. Section 10.102 incorporates by reference the STCW (including its Regulation V/3, adopted in 1997, and the corresponding Code) into the rules in part 10 and adjusts the list of rules that refer to the STCW, as amended.

2. Section 10.103 amends the definition of “STCW” to add the words “and 1997 (incorporated by reference in § 10.102)”. For continuity, sections 10.205, 10.304, 10.603, 10.901, 10.903, and 10.1005, where STCW or the STCW Code is cited, add the same parenthetic statement.

3. New sections 10.1101, 10.1103, and 10.1105 require certain licensed officers to complete training required by the STCW Regulation V/3 (and elaborated by section A-V/3 of the Code) when serving on a ship, other than a Ro-Ro passenger ship, carrying more than 12 passengers when on an international voyage.

46 CFR Part 12—Certification of Seamen

4. Section 12.01-3 incorporates by reference the STCW (including its Regulation V/3, adopted in 1997, and the corresponding Code) into the rules in part 12 and adjusts the list of rules that refer to the STCW, as amended.

5. Section 12.01-6 amends the definition of “STCW” to add the words “and 1997 (incorporated by reference in § 12.01-3)”. For continuity, sections 12.01-1, 12.01-6, 12.02-7, 12.02-11, 12.03-1, 12.05-3, 12.05-7, 12.05-11, 12.10-3, 12.10-5, 12.10-7, 12.10-9, 12.15-3, 12.15-7, 12.25-45, 12.30-5, and 12.35-5, where STCW or the STCW Code is cited, add the same parenthetic statement.

6. New subpart 12.35 requires certain mariners to complete training required by Regulation V/3 (and elaborated by section A-V/3 of the Code) when serving on a ship, other than a Ro-Ro passenger ship, carrying more than 12 passengers when on an international voyage. If we left the wording in § 12.35-5 of the NPRM unchanged, we would inadvertently restrict the training to persons holding merchant mariners' documents. As reflected in the regulatory analysis supporting the NPRM, it was (and remains) our intent to have these requirements apply to all crewmembers (including undocumented deckhands), who, during emergencies, are responsible for the safety of passengers. Consequently, we have modified the wording in § 12.35-5. We are providing a 60-day comment period to allow public review of and comment on this change before we implement it.

46 CFR Part 15—Manning

7. The heading of § 15.1103 is revised so as to clearly indicate that the section also covers undocumented crewmembers. Paragraphs (e), (f), and (g) of § 15.1103 will become paragraphs (f), (g), and (h), respectively; relettered paragraph (f) will undergo no change; and the heading and relettered paragraphs (g) and (h) will undergo slight editorial change.

8. A new paragraph 15.1103(e) will govern any ship, other than a Ro-Ro passenger ship, carrying more than 12 passengers when on an international voyage. Paragraph 15.1103(d) takes on the simpler, clearer form of new paragraph 15.1103(e), without substantive change.

Discussion of Comments

We received two comments on this rulemaking. Both addressed our request in the NPRM for suggestions on whether these requirements should apply to any U.S.-flag passenger ship inspected under 46 CFR subchapter H and operating on a domestic voyage. Both stated that the requirements should not apply. Because there are so few records of casualties, they believe there is no need to impose the requirements on these vessels.

At this time, we do not intend to require any U.S.-flag passenger ship inspected under 46 CFR subchapter H, T, or K, when operating on a domestic voyage, to comply with these requirements. Should the Coast Guard find this to be necessary, a separate rulemaking would also be necessary. The training required by this rule, however, is required for masters, certain licensed officers, and certain crewmembers serving on a vessel inspected under subchapter H, as well as under subchapter T or K, if the vessel is on an international voyage.

Incorporation by Reference

This interim rule incorporates by reference the material listed in 46 CFR 10.102 and 12.01-3. Copies of the material are available from the source listed in those sections. The Coast Guard submitted this material to the Director of the Federal Register for approval of the incorporation by reference and received such approval.

Regulatory Evaluation

This interim rule is not a “significant regulatory action” under section 3(f) of Executive Order 12866, Regulatory Planning and Review, and does not require an assessment of potential costs and benefits under section 6(a)(3) of that Order. The Office of Management and Budget (OMB) has not reviewed it under that Order. It is not “significant” under the regulatory policies and procedures of the Department of Transportation (DOT) [44 FR 11040 (February 26, 1979)].

A Regulatory Evaluation under paragraph 10e of the regulatory policies and procedures of DOT is available in the docket as indicated under ADDRESSES.A summary of the Regulatory Evaluation follows:

The Coast Guard is publishing this interim rule to implement Regulation V/3 of the STCW, as amended in 1997. The rule specifies the necessary training and certification for certain mariners serving on any ship, other than a Ro-Ro passenger ship, carrying more than 12 passengers when on an international voyage (the interim rule on the STCW (CGD 95-062, June 26, 1997) covers Ro-Ro passenger ships). The IMO mandated that its Parties ensure this training and certification, which should reduce human error, improve the ability of crewmembers to assist passengers during emergencies, and promote safety.

Costs

The specialized training courses that certain mariners will have to complete are: Crisis Management and Human Behavior, Crowd Management, Special Safety Training (including communication), Training in Passengers' Safety, and Special Familiarization Training (including the operational limitations of the ship). The average cost for the courses, held for 5 days at various training institutions, is $1,215 a person. We estimate that the cost to develop in-house courses will not exceed the cost of courses at these institutions. Either operators of vessels or companies may develop a more cost-effective way to provide in-house training (for less than the cost we estimate). We estimate the costs of first-year training for 1,144 mariners to be $1,389,960.

Union contracts may require some companies to pay for training new hires. We estimate the cost of training for the new hires paid by the companies to be $20,655 a year beginning in 2001 and running through 2010. We estimate the cost paid by the new hires themselves after 2001 to be $117,855 a year.

Certain mariners will have to complete refresher training for Crisis Management and Human Behavior, Crowd Management, and Special Safety every five years. This training is available as a single two-day course at an estimated cost of $330. We estimate the first-year travel cost incurred by the existing staff of mariners that receive training away from their vessels at $406,850. We estimate the cost of travel for the new hires to be $45,030. We estimate that about one-half of the existing staff of mariners receiving training away from their vessels will continue to receive their wages while attending courses, because of their membership in unions. We estimate this one-time cost of wages to be $370,310. We estimate the recurring cost of wages associated with the refresher training to be $183,034 a year. We estimate the one-time cost incurred by the remaining half of the existing staff of mariners (those that don't receive wages while attending initial training) to be $370,310; this is the “opportunity cost” of the mariners’ spare time. As with initial training, we believe that owners or operators may develop in-house refresher training at less cost than we estimate.

In summary, the 10-year present value (in 2000 dollars) of the total cost of this rule is $4,345,794. To learn further details concerning the costs associated with this rule, as well as the potential benefits, see the analysis provided in the docket for this rule on the Internet at http://dms.dot.gov.

Benefits

Implementing this interim rule will ensure that any U.S. ship carrying more than 12 passengers on an international voyage is in compliance with the Amendments to the International Convention on the STCW, 1978. IMO adopted the Amendments in response to a series of casualties involving passenger ships, such as the Scandinavian Star, Estonia, and Achille Lauro. During these casualties, the crews did not perform emergency duties in an efficient, coordinated, and effective manner. We reviewed the casualty records for the U.S. ships this rule will affect and found no cases that would have directly benefited from this rule. However, the following narratives briefly describe two of the casualties to these three foreign-flag ships, to show the types of risks this rule addresses.

On March 15, 1988, a fire occurred in the engine room of the Scandinavian Star. Two crewmembers were injured, and two passengers were transported to a medical facility by helicopter, treated, and released. Costs of damage and repair came to about $3.5 million. According to an excerpt from the marine-accident report of the National Transportation Safety Board, one of the passengers stated that one of the crewmembers did not know how to pull the fire alarm and that the passengers waited from 45 minutes to 2 hours to receive lifejackets and then were given child-size lifejackets.

On November 30, 1994, a fire onboard the Achille Lauro proved more costly: It left two persons dead, and eight injured. Afterward, many of the survivors complained of confusion and a lack of leadership by the crew when the fire broke out. They accused some crewmembers of abandoning elderly passengers to save themselves.

While the requirement for all crewmembers to have familiarization or basic safety training or instruction figured in the 1995 amendments to the STCW, the amendments did not adequately address the need for special training of personnel on passenger ships. Further work was necessary at the IMO to reach agreement on the mandatory minimum training and qualifications for these personnel.

Implementing this rule should reduce the risk that passengers will be injured in fires or other emergencies on passenger ships, because crewmembers will be trained to coordinate rapid responses and keep passengers from panicking. The following recent accidents involving passenger ships highlight the continued need for this rule: the fire on the Universe Explorer (July 1996) near Juneau, Alaska; the fire on the Vistafjord (April 1997) near Grand Bahama Island; and the grounding of the Monarch of the Seas (December 1998) off St. Maarten.

Small Entities

Under the Regulatory Flexibility Act (5 U.S.C. 601-612), we considered whether this interim rule would have a significant economic impact on a substantial number of small entities. Small entities include small businesses, not-for-profit organizations that are independently owned and operated and are not dominant in their fields, and governmental jurisdictions with populations of less than 50,000.

This rule will affect certain crewmembers on any ship carrying more than 12 passengers when on an international voyage. The Act, however, does not regard individual crewmembers as small entities.

This rule will not require companies to bear the cost of the training. Nonetheless, we estimate that the companies will choose to bear most of it.

During the analysis for the interim rule implementing 1995 Amendments to the STCW, we considered the impact on businesses, organizations, and jurisdictions both defined as small entities and potentially affected by the STCW. Small entities here include owners and operators of some of the STCW-affected ships, training institutions, and businesses offering marine-training courses or supplying assessors or examiners. As that rule does not, this rule will not require any single business to offer or assess all courses required under the STCW. Training institutions or businesses that offer training-course assessors will not have to provide new services. This rule will allow for small entities to remain in and actively compete in maritime training with options to teach and assess as many courses or functions as they choose.

We realize there are issues regarding the lack of approved courses and designated examiners in some remote locations. The Coast Guard will develop guidelines addressing alternative means for the delivery of such courses; these means may involve delivery of such courses on site (i.e., “in-house” training). These courses or other training would be acceptable for officers and crewmembers on vessels inspected under subchapter H, T, or K, when authorized by the cognizant OCMI.

Therefore, the Coast Guard certifies under 5 U.S.C. 605(b) that this rule will not have a significant impact on a substantial number of small entities. If you think that your business, organization, or governmental jurisdiction qualifies as a small entity and that this rule will have a significant economic impact on it, please submit a comment to the Docket Management Facility at the address under ADDRESSES. In your comment, explain why you think it qualifies and how and to what degree this rule would economically affect it.

Assistance for Small Entities

Under subsection 213(a) of the Small Business Regulatory Enforcement Fairness Act of 1996 (Pub. L. 104-121), we want to assist small entities in understanding this interim rule so that they can better evaluate its effects on them and participate in the rulemaking. If the rule as applied to persons not holding merchant mariners' documents would affect your small business, organization, or governmental jurisdiction and you have questions concerning its provisions or options for compliance, please consult Mark Gould, project manager, at 202-267-6890. Small businesses may send comments on the actions of Federal employees who enforce, or otherwise determine compliance with, Federal rules, to the Small Business and Agriculture Regulatory Enforcement Ombudsman and to the Regional Small Business Regulatory Fairness Boards. The Ombudsman evaluates these actions annually and rates each agency's responsiveness to small business. If you wish to comment on actions by employees of the Coast Guard, call 1-888-REG-FAIR (1-888-734-3247).

Collection of Information

As described in the NPRM (65 FR 37505-13) and in the Analysis Documentation (available in the docket as indicated under ADDRESSES), this interim rule contains three new requirements that call for collection of information under the Paperwork Reduction Act of 1995 (44 U.S.C. 3501-3520). The three take a single form: holding documentary evidence of compliance with STCW.

STCW Regulation V/3 requires certain seafarers serving on any ship (other than a Ro-Ro passenger ship) carrying more than 12 passengers when on an international voyage to complete specialized training as adopted by IMO in 1997. We didn't receive any comments regarding the collection-of-information burden of this rule.

As required by 44 U.S.C. 3507(d), we submitted a copy of this rule to OMB for its review of the collection of information. The section numbers are 46 CFR 10.1105, 12.35-5, and 15.1103, and the corresponding approval number from OMB will be OMB Control Number 2115-0624. We will publish another notice when OMB approves the collection of information. We expect approval to be valid for three years.

You need not respond to a collection of information unless it displays a currently valid control number from OMB.

Federalism

We have analyzed this interim rule under Executive Order 13132, Federalism. It is well settled that States are precluded from regulating in categories that are reserved for regulation by the Coast Guard. It is also well settled, now, that all of the categories covered in 46 U.S.C. 3306 and 3703(a), 7101, and 8101 (design, construction, alteration, repair, maintenance, operation, equipping, personnel qualification, and manning of vessels to which these sections apply) are within the field foreclosed from regulation by States. (See the decision of the Supreme Court in the consolidated cases of United States v. Locke and Intertanko v. Locke, 120 S. Ct. 1135 (1999), 2000 U.S. LEXIS 1895 (March 6, 2000).) Because this rule falls into the above-mentioned categories, it precludes States from regulating.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector, of $100,000,000 or more in any one year.

While two States operate passenger vessels on international voyages, entities in the private sector own and operate most of the vessels with mariners that this interim rule will affect. More important, the total burden of Federal mandates that this rule will impose will not exceed $5 million (during the first 10 years after the effective date of the rule). Therefore, this rule will not impose an unfunded mandate. Although this rule will not result in a $100,000,000 expenditure, we do discuss its effects elsewhere in this preamble.

Taking of Private Property

This interim rule will not effect a taking of private property or otherwise have implications for taking under Executive Order 12630, Governmental Actions and Interference with Constitutionally Protected Property Rights.

Reform of Civil Justice

This interim rule meets applicable standards in sections 3(a) and 3(b)(2) of Executive Order 12988, Civil Justice Reform, to minimize litigation, eliminate ambiguity, and reduce burden.

Protection of Children

We have analyzed this interim rule under Executive Order 13045, Protection of Children from Environmental Health Risks and Safety Risks. This rule is not economically significant and does not concern an environmental risk to health or risk to safety that may disproportionately affect children.

Indian Tribal Governments

This interim rule does not have tribal implications under Executive Order 13175, Consultation and Coordination with Indian Tribal Governments, because it does not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this rule might affect tribal governments, even if the effect may not constitute a “tribal implication” under the Order.

Energy Effects

We have analyzed this interim rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this interim rule and concluded that under figure 2-1, paragraph (34)(c), of Commandant Instruction M16475.lD, this rule is categorically excluded from further environmental documentation. This rule will not result in any significant cumulative impact on the human environment; any substantial controversy or substantial change to existing environmental conditions; any impact, more than minimal, on properties protected under 4(f) of the DOT Act, as superseded by Public Law 97-449 and Section 106 of the National Historic Preservation Act; or any inconsistencies with any Federal, State, or local laws or administrative determinations relating to the environment. A Determination of Categorical Exclusion is available in the docket where indicated under ADDRESSES.

List of Subjects

46 CFR Part 10

Incorporation by reference, Marine safety, Seamen, Vessels.

46 CFR Part 12

Incorporation by reference, Marine safety, Seamen, Vessels.

46 CFR Part 15

Marine safety, Navigation (water), Seamen, Vessel manning, Vessels.

For the reasons set out in the preamble, the Coast Guard is amending 46 CFR parts 10, 12, and 15 as follows:

PART 10—LICENSING OF MARITIME PERSONNEL

1. The citation of authority for part 10 continues to read as follows:

Authority: 31 U.S.C. 9701; 46 U.S.C. 2101, 2103, 2110; 46 U.S.C. Chapter 71; 46 U.S.C. 7502, 7505, 7701; Pub. L. 103-206, 107 Stat. 2439; 49 CFR 1.45, 1.46; Sec. 10.107 also issued under the authority of 44 U.S.C. 3507.

2. Revise § 10.102(b) to read as follows:

§ 10.102 Incorporation by reference.

* * * * *

(b) The material incorporated by reference in this part and the sections affected are as follows: International Maritime Organization (IMO), 4 Albert Embankment, London, SE1 7SR, England. The STCW—International Convention on Standards of Training, Certification and Watchkeeping for Seafarers, 1978, as amended in 1995 and 1997 (the STCW Convention, or the STCW)—and Seafarers' Training, Certification and Watchkeeping Code (the STCW Code), approved for incorporation by reference in sections 10.103; 10.205; 10.304; 10.603; 10.901; 10.903; 10.1005; and 10.1105 of this part.

§ 10.103 [Amended]

3. In § 10.103, to the definition of “STCW,” immediately following the words “as amended in 1995”, add the words “and 1997 (incorporated by reference in § 10.102)”.

§ 10.205 [Amended]

4. In paragraph (l)(1) of § 10.205, immediately following the words “STCW Code”, add the words “(incorporated by reference in § 10.102)”; and in paragraphs (l)(2), (3), and (4) of § 10.205, immediately following the words “STCW Code”, add the words “(also incorporated by reference in § 10.102)”.

§ 10.304 [Amended]

5. In paragraph (f) of § 10.304, immediately following the words “Chapter III of STCW”, add the words “(incorporated by reference in § 10.102)”.

§ 10.603 [Amended]

6. In paragraph (c) of § 10.603, immediately following the words “STCW Regulation IV/2”, add the words “(incorporated by reference in § 10.102)”.

§ 10.901 [Amended]

7. In paragraph (c) of § 10.901, immediately following the words “STCW Regulations”, add the words “(incorporated by reference in § 10.102)”.

§ 10.903 [Amended]

8. In paragraphs (c) and (d) of § 10.903, immediately following the words “STCW Code”, add the words “(incorporated by reference in § 10.102)”.

§ 10.1005 [Amended]

9. In § 10.1005, immediately following the words “STCW Code”, add the words “(incorporated by reference in § 10.102)”.

10. Add Subpart K, consisting of §§ 10.1101 through 10.1105, to read as follows:

Subpart K—Officers on a Passenger Ship, Other Than a Ro-Ro Passenger Ship, When on an International Voyage
Sec.
10.1101 Purpose of rules.
10.1103 Definitions.
10.1105 General requirements for license holders.

Subpart K—Officers on a Passenger Ship, Other Than a Ro-Ro Passenger Ship, When on an International Voyage

§ 10.1101 Purpose of rules.

The rules in this subpart establish requirements for officers serving on passenger ships as defined in § 10.1103.

§ 10.1103 Definitions.

Passenger ship in this subpart means a ship, other than a Ro-Ro passenger ship, carrying more than 12 passengers when on an international voyage.

§ 10.1105 General requirements for license holders.

If you are licensed as a master, mate, chief mate, engineer, or chief engineer, then, before you may serve on a passenger ship, you must—

(a) Meet the appropriate requirements of the STCW Regulation V/3 and of section A-V/3 of the STCW Code (incorporated by reference in § 10.102); and

(b) Hold documentary evidence to show that you meet these requirements through approved or accepted training.

PART 12—CERTIFICATION OF SEAMEN

11. The citation of authority for part 12 continues to read as follows:

Authority: 31 U.S.C. 9701; 46 U.S.C. 2101, 2103, 2110, 7301, 7302, 7503, 7505, 7701; 49 CFR 1.46.

§ 12.01-1 [Amended]

12. In paragraph (a)(2) of § 12.01-1, immediately following the words “required by STCW”, add the words “(incorporated by reference in § 12.01-3)”.

§ 12.01-3 [Amended]

13. Revise § 12.01-3 to read as follows:

§ 12.01-3 Incorporation by reference.

(a) Certain material is incorporated by reference into this part with the approval of the Director of the Federal Register under 5 U.S.C. 552(a) and 1 CFR part 51. To enforce any edition other than that specified in paragraph (b) of this section, the Coast Guard must publish notice of change in the Federal Register and must ensure that the material is available to the public. All approved material is available for inspection at the Office of the Federal Register, 800 North Capitol Street NW., suite 700, Washington, DC, and at the U.S. Coast Guard, Office of Operating and Environmental Standards, room 1210, 2100 Second Street SW., Washington, DC, and is available from the sources indicated in paragraph (b) of this section.

(b) The material approved for incorporation by reference in this part, and the sections affected, are as follows:

International Maritime Organization (IMO), 4 Albert Embankment, London, SE1 7SR, England. The STCW—International Convention on Standards of Training, Certification and Watchkeeping for Seafarers, 1978, as amended in 1995 and 1997 (the STCW Convention, or the STCW)—and Seafarers' Training, Certification and Watchkeeping Code (the STCW Code), approved for incorporation by reference in sections 12.01-1; 12.01-6; 12.02-7; 12.02-11; 12.03-1; 12.05-3; 12.05-7; 12.05-11; 12.10-3; 12.10-5; 12.10-7; 12.10-9; 12.15-3; 12.15-7; 12.25-45; 12.30-5; and 12.35-5 of this part.

§ 12.01-6 [Amended]

14. In § 12.01-6, to the definition of “STCW,” delete the words “in 1995”, and add the parenthetic statement “(incorporated by reference in § 12.01-3)”.

§ 12.02-7 [Amended]

15. In paragraph (d) of § 12.02-7, immediately following the words “in accordance with STCW”, add the words “(incorporated by reference in § 12.01-3)”.

§ 12.02-11 [Amended]

16. In paragraph (h)(1) of § 12.02-11, immediately following the words “the STCW Code”, add the words “(incorporated by reference in § 12.01-3)”.

§ 12.03-1 [Amended]

17. In paragraph (a)(8) of § 12.03-1, immediately following the words “the STCW Code”, add the words “(incorporated by reference in § 12.01-3)”.

§ 12.05-3 [Amended]

18. In paragraph (b)(1) of § 12.05-3, immediately following the words “the STCW Code”, add the words “(incorporated by reference in § 12.01-3)”.

§ 12.05-7 [Amended]

19. In paragraph (a)(5) of § 12.05-7, immediately following the words “the STCW Code”, add the words “(incorporated by reference in § 12.01-3)”.

§ 12.05-11 [Amended]

20. In paragraph (a) of § 12.05-11, remove the words “STCW endorsement” and replace them with the words “endorsement under the STCW (incorporated by reference in § 12.01-3)”.

§ 12.10-3 [Amended]

21. In paragraph (c) of § 12.10-3, immediately following the words “STCW Regulation VI/2”, add the words “(incorporated by reference in § 12.01-3)”.

§ 12.10-5 [Amended]

22. In paragraph (d) of § 12.10-5, immediately following the words “STCW Regulation VI/2”, add the words “(incorporated by reference in § 12.01-3)” and, immediately following the words “STCW Code”, add the words “(also incorporated by reference in § 12.01-3)”.

§ 12.10-7 [Amended]

23. In § 12.10-7, remove the words “STCW endorsement” and replace them with the words “endorsement under the STCW (incorporated by reference in § 12.01-3)”.

§ 12.10-9 [Amended]

24. In paragraph (b)(2) of § 12.10-9, immediately following the words “STCW Regulation VI/2”, add the words “(incorporated by reference in § 12.01-3)”.

§ 12.15-3 [Amended]

25. In paragraph (d)(1) of § 12.15-3, immediately following the words “the STCW Code”, add the words “(incorporated by reference in § 12.01-3)”.

§ 12.15-7 [Amended]

26. In paragraph (c) of § 12.15-7, immediately following the words “the STCW Code”, add the words “(incorporated by reference in § 12.01-3)”.

§ 12.25-45 [Amended]

27. In § 12.25-45, immediately following the words “the STCW Code”, add the words “(incorporated by reference in § 12.01-3)”.

§ 12.30-5 [Amended]

28. In § 12.30-5, immediately following the words “the STCW Code”, add the words “(incorporated by reference in § 12.01-3)”.

29. Add new subpart 12.35, consisting of §§ 12.35-1 through 12.35-5, to read as follows:

Subpart 12.35—Crewmembers on a Passenger Ship, Other Than a Ro-Ro Passenger Ship, When on an International Voyage
Sec.
12.35-1 Purpose of rules.
12.35-3 Definition.
12.35-5 General requirements.

Subpart 12.35—Crewmembers on a Passenger Ship, Other Than a Ro-Ro Passenger Ship, When on an International Voyage

§ 12.35-1 Purpose of rules.

The rules in this subpart establish requirements for the certification of seamen serving on passenger ships as defined in § 12.35-3.

§ 12.35-3 Definition.

Passenger ship in this subpart means a ship, other than a Ro-Ro passenger ship, carrying more than 12 passengers when on an international voyage.

§ 12.35-5 General requirements.

If you are an unlicensed person, then, before you may serve on a passenger ship and perform duties that involve safety or care for passengers, you must—

(a) Meet the appropriate requirements of the STCW Regulation V/3 and of section A-V/3 of the STCW Code (incorporated by reference in § 12.01-3); and

(b) Hold documentary evidence to show that you do meet these requirements through approved or accepted training.

PART 15—MANNING REQUIREMENTS

30. The citation of authority for part 15 continues to read as follows:

Authority: 46 U.S.C. 2101, 2103, 3306, 3703, 8101, 8102, 8104, 8105, 8301, 8304, 8502, 8503, 8701, 8702, 8901, 8902, 8903, 8904, 8905(b), 9102; Pub. L. 103-206, 107 Stat. 2439; 49 CFR 1.45 and 1.46.

31. In § 15.1103, revise paragraph (d) to read as set forth below; redesignate paragraphs (e), (f), and (g) as paragraphs (f), (g), and (h), respectively; add a new paragraph (e) to read as set forth below; and revise the section heading and newly redesignated paragraphs (g) and (h) to read as follows:

§ 15.1103 Employment and service within restrictions of a license, document, and STCW endorsement or of a certificate of training.

* * * * *

(d) You must hold documentary evidence to show you meet the requirements of § 10.1005 (if licensed) or § 12.30-5 (if unlicensed) of this chapter if you are a master or crewmember on board a Ro-Ro passenger ship to which a certificate signifying compliance with the International Convention for the Safety of Life at Sea, 1974, as amended (SOLAS), has been issued.

(e) You must hold documentary evidence to show you meet the requirements of § 10.1105 (if licensed) or § 12.35-5 (if unlicensed) of this chapter if you are a master or crewmember on board a vessel that is—

(1) Subject to the STCW;

(2) Not a Ro-Ro passenger ship; and

(3) Carrying more than 12 passengers when on an international voyage.

* * * * *

(g) On board a seagoing vessel required to comply with provisions of the GMDSS in Chapter IV of SOLAS, no person may employ or engage any person to serve, and no person may serve, as the person designated to maintain GMDSS equipment at sea, when the service of a person so designated is used to meet the maintenance requirements of SOLAS Regulation IV/15, which allows for capability of at-sea electronic maintenance to ensure that radio equipment is available for radio communication, unless the person so serving holds documentary evidence that he or she is competent to maintain GMDSS equipment at sea.

(h) After January 31, 2002, on board a seagoing vessel fitted with an Automatic Radar Plotting Aid (ARPA), no person may employ or engage any person to serve, and no person may serve, as the master, chief mate, or officer of the navigational watch, unless the person so serving has been trained in the use of ARPA in accordance with § 10.205 or § 10.209 of this chapter, whichever is appropriate.

Dated: October 18, 2002.
Paul J. Pluta,
Rear Admiral, U.S. Coast Guard, Assistant Commandant for Marine Safety, Security and Environmental Protection.

[FR Doc. 02-27376 Filed 10-29-02; 8:45 am]

BILLING CODE 4910-15-P